DEPARTMENT OF TRANSPORTATION

Coast Guard

[USCG 2000-7330]

Collection of Information Under Review by Office of Management and Budget (OMB): OMB Control Numbers 2115-0506, and 2115-0505

AGENCY: Coast Guard, DOT.

ACTION: Request for comments.

SUMMARY: In compliance with the Paperwork Reduction Act of 1995, the Coast Guard intends to request the approval of OMB for the renewal of two Information Collection Requests (ICRs). These ICRs comprise (1) Declaration of Inspection; and (2) Plan Approval and Records for Tank, Passenger, Cargo and Miscellaneous Vessels, Mobile Offshore Drilling Units, Nautical Schools, Oceanographic Vessels, and Electrical Engineering. Before submitting the ICRs to OMB, the Coast Guard is asking for comments on the collections described below.

DATES: Comments must reach the Coast Guard on or before July 10, 2000.

ADDRESSES: You may mail comments to the Docket Management System (DMS) [USCG 2000-7330], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for these requests. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions on the docket.

Request for Comments

The Coast Guard encourages interested persons to submit written comments. Persons submitting comments should include their names and addresses, identify this document [USCG 2000-7330] and the specific ICR to which each comment applies, and give the reason(s) for each comment. Please submit all comments and attachments in an unbound format no larger than 8½ by 11 inches, suitable for copying and electronic filing. Persons wanting acknowledgment of receipt of comments should enclose stamped, self-addressed postcards or envelopes.

Information Collection Requests

1. Title: Declaration of Inspection.

OMB Control Number: 2115-0506.

Summary: The Coast Guard uses Declarations of Inspection (DOIs) to help prevent spills of oil and hazardous materials, and prevent damage to facilities or vessels. Persons-in-charge of transfers must review and certify compliance with procedures specified by the terms of the DOIs.

Need: 33 U.S.C. 1221 authorizes the Coast Guard to establish rules to prevent the discharge of oil and hazardous material from vessels and facilities. (The rules for DOIs appear at 33 CFR 156.150 and 46 CFR 35.35-30.) The Coast Guard uses the Declarations to ensure the integrity of facilities and vessels.

Respondents: Persons-in-charge of transfers.

Frequency: On occasion.

Burden: The estimated burden is 28,332 hours annually.

2. Title: Plan Approval and Records for Tank, Passenger, Cargo and Miscellaneous Vessels, Mobile Offshore Drilling Units, Nautical Schools, Oceanographic Vessels, and Electrical Engineering.

OMB Control Number: 2115-0505.

Summary: This collection of information requires the shipyard, designer, or manufacturer for the construction of a vessel to submit plans, technical information, and operating manuals to the Coast Guard.

Need: 46 U.S.C. 3301 and 3306 make the Coast Guard responsible for enforcing rules that promote the safety of life and property in marine transportation. The Coast Guard uses the information collected to ensure that a vessel meets the applicable standards of construction, arrangement, and equipment.

Respondents: Shipyards, designers, and manufacturers of certain vessels.

Frequency: On occasion.

Burden: The estimated burden is 5,286 hours annually.

Dated: May 1, 2000.
Daniel F. Sheehan,
Director of Information and Technology.

[FR Doc. 00-11706 Filed 5-9-00; 8:45 am]

BILLING CODE 4910-15-P